DEPARTMENT OF HEALTH AND HUMAN SERVICES

Centers for Medicare and Medicaid Services

[Document Identifier: CMS-301, CMS-10077, and CMS-10072]

Agency Information Collection Activities: Proposed Collection; Comment Request

Agency: Centers for Medicare and Medicaid Services, HHS.

In compliance with the requirement of section 3506(c)(2)(A) of the Paperwork Reduction Act of 1995, the Centers for Medicare and Medicaid Services (CMS) (formerly known as the Health Care Financing Administration (HCFA)), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: Reinstatement, without change, of a previously approved collection for which approval has expired.

Title of Information Collection: Certification of Medicaid Eligibility Quality Control (MEQC) Payment Error Rates and Supporting Regulations in 42 CFR 431.800 through 431.865.

Form No.: CMS-301 (OMB# 0938-0246).

Use: MEQC is operated by the State title XIX agency to monitor and improve the administration of its Medicaid system. The MEQC system is based on State reviews of Medicaid beneficiaries from the eligibility files. The reviews are used to assess beneficiary liability, if any, and to determine the amounts paid to provide Medicaid services for these cases.

Frequency: Semi-annually.

Affected Public: State, Local or Tribal Government.

Number of Respondents: 51.

Total Annual Responses: 102.

Total Annual Hours: 22,515.

2. Type of Information Collection Request: New Collection.

Title of Information Collection: “Medicare Decisions and Your Rights”.

Form No.: CMS-10077 (OMB# 0938-NEW).

Use: Purusant to 42 CFR 422.568 (c), M+C practitioners must deliver notices to enrollees informing them of their right to obtain a detailed notice regarding services from their M+C organizations. This notice fulfills the regulatory requirement.

Frequency: Other (distribution).

Affected Public: Individuals or Households, Business or other for-profit, Not-for-profit institutions, Federal Government.

Number of Respondents: 155.

Total Annual Responses: 5,000,000.

Total Annual Hours: 83,333.

3. Type of Information Collection Request: New Collection.

Title of Information Collection: MSInteractive Survey Tool for cms.hhs.gov.

Form No.: CMS-10072 (OMB# 0938-NEW).

Use: CMS has developed a survey tool using MSInteractive to obtain feedback from users accessing cms.hhs.gov website to guide future improvements.

Frequency: on occasion.

Affected Public: Individuals or Households, Business or other for-profit.

Number of Respondents: 7000.

Total Annual Responses: 7000.

Total Annual Hours: 583.

To obtain copies of the supporting statement and any related forms for the proposed paperwork collections referenced above, access CMS's Web site address at http://cms.hhs.gov/regulations/pra/default.asp, or e-mail your request, including your address, phone number, OMB number, and CMS document identifier, to Paperwork@hcfa.gov, or call the Reports Clearance Office on (410) 786-1326. Written comments and recommendations for the proposed information collections must be mailed within 60 days of this notice directly to the CMS Paperwork Clearance Officer designated at the following address: CMS, Office of Strategic Operations and Regulatory Affairs, Division of Regulations Development and Issuances, Attention: Dawn Willinghan, Room N2-14-26, 7500 Security Boulevard, Baltimore, Maryland 21244-1850.

Dated: March 13, 2003.
Dawn Willinghan,
Acting Paperwork Reduction Act Team Leader, CMS Reports Clearance Officer, Office of Strategic Operations and Strategic Affairs, Division of Regulations Development and Issuances.

[FR Doc. 03-6648 Filed 3-19-03; 8:45 am]

BILLING CODE 4120-03-P